DEPARTMENT OF LABOR

Employment and Training Administration

[TA-W-71,032]

AGY Holding Corporation, Huntingdon, PA; Notice of Revised Determination on Reconsideration

By application dated June 1, 2010 a union official requested administrative reconsideration of the Department's negative determination regarding the eligibility of workers and former workers of AGY Holding Corporation, Huntingdon, Pennsylvania, to apply for Trade Adjustment Assistance (TAA). On June 21, 2010, the Department issued a Notice of Affirmative Determination Regarding Application for Reconsideration. The Department's Notice of affirmative determination was published in the Federal Register on July 1, 2010, 2010 (75 FR 38126).

Workers at the subject firm are engaged in employment related to the production of fine yarns and specialty glass yarns. The worker group does not include on-site leased workers.

Based on the information obtained during the reconsideration investigation, the Department determines that the subject firm shifted abroad a meaningful proportion of production of articles like or directly competitive with the fine yarns and/or specialty glass yarns produced by the workers.

Conclusion

After careful review of the additional facts obtained during the reconsideration investigation, I determine that workers of AGY Holding Corporation, Huntingdon, Pennsylvania, who are engaged in employment related to the production of fine yarns and specialty glass yarns, meet the worker group certification criteria under Section 222(a) of the Act, 19 U.S.C. 2272(a). In accordance with Section 223 of the Act, 19 U.S.C. 2273, I make the following certification:

All workers of AGY Holding Corporation, Huntingdon, Pennsylvania, who became totally or partially separated from employment on or after June 4, 2008, through two years from the date of this revised certification, and all workers in the group threatened with total or partial separation from employment on date of certification through two years from the date of certification, are eligible to apply for adjustment assistance under Chapter 2 of Title II of the Trade Act of 1974, as amended.

Signed in Washington, DC, this 7th day of October, 2010.
Del Min Amy Chen,
Certifying Officer, Office of Trade Adjustment Assistance.

[FR Doc. 2010-26770 Filed 10-22-10; 8:45 am]

BILLING CODE 4510-FN-P